DEPARTMENT OF HEALTH AND HUMAN SERVICES

National Institutes of Health

National Institute of Arthritis and Musculoskeletal and Skin Diseases Amended; Notice of Meeting

Notice is hereby given of a change in the meeting of the Arthritis and Musculoskeletal and Skin Diseases Clinical Trials Review Committee, October 15, 2013, 8:00 a.m. to October 16, 2013, 1:00 p.m., Bethesda North Marriott Hotel & Conference Center, 5701 Marinelli Road, Bethesda, MD 20852, which was published in the Federal Register on September 23, 2013, 78 FR 58320-58321.

This meeting, originally scheduled for October 15-16, 2013, will be held on December 10, 2013, from 8:00 a.m. to 5:00 p.m. and December 11, 2013, from 8:00 a.m. to 1:00 p.m. at the Bethesda Marriott Suites, 6711 Democracy Blvd., Bethesda, MD 20817. The meeting is closed to the public.

Dated: October 29, 2013.
Carolyn Baum,
Program Analyst, Office of Federal Advisory Committee Policy.

[FR Doc. 2013-26172 Filed 11-1-13; 8:45 am]

BILLING CODE 4140-01-P